DEPARTMENT OF THE INTERIOR

Fish and Wildlife Service

[FWS-R1-ES-2020-0101; FXES11140100000-212-FF01E0000]

Notice of Intent To Prepare a Draft Environmental Impact Statement for the Thurston County Habitat Conservation Plan in Thurston County, Washington

AGENCY: Fish and Wildlife Service, Interior.

ACTION: Notice of intent to prepare an environmental impact statement; notice of virtual public scoping meetings; request for comments.

SUMMARY: We, the U.S. Fish and Wildlife Service (Service), provide this notice to open a public scoping period and announce public scoping meetings in accordance with requirements of the National Environmental Policy Act, and its implementing regulations. We intend to prepare an environmental impact statement (EIS) to evaluate the impacts on the human environment related to an application from Thurston County, Washington (applicant), for an incidental take permit under the Endangered Species Act. The Service previously published a similar notice of intent to prepare an EIS on March 20, 2013. Thurston County used the public comments received along with new information to further develop the draft Thurston County Habitat Conservation Plan. This notice opens a new public scoping period based on a new application received from Thurston County on July 30, 2020. Comments received in writing during the 2013 public comment period were retained, and do not need be provided again during this public comment period to be considered during this review.

DATES: Submitting Comments: We will accept comments received or postmarked on or before November 16, 2020. Comments submitted online at https://www.regulations.gov/ (see ADDRESSES) must be received by 11:59 p.m. Eastern Time on November 16, 2020.

Public Meetings: The Service will hold two public scoping meetings during the scoping period. To help protect the public and limit the spread of the COVID-19 virus, the public meetings will be held virtually at the following times:

• October 26, 2020, from 6 p.m. to 8 p.m.

• October 28, 2020, from 6 p.m. to 8 p.m.

ADDRESSES:

Submitting Comments: You may submit comments by one of the following methods:

• Internet: http://www.regulations.gov. Follow the instructions for submitting comments on Docket No. FWS-R1-ES-2020-0101.

• U.S. mail: Public Comments Processing; Attn: Docket No. FWS-R1-ES-2020-0101; U.S. Fish and Wildlife Service Headquarters, MS: PRB/3W; 5275 Leesburg Pike, Falls Church, VA 22041-3803.

For additional information about submitting comments, see Request for Public Comments and Public Availability of Comments under SUPPLEMENTARY INFORMATION.

Public Meetings: A link and access instructions to the virtual scoping meetings will be posted to https://www.fws.gov/wafwo/ at least one week prior to the public meeting dates.

FOR FURTHER INFORMATION CONTACT: Marty Acker, by telephone at 360-753-9073, or by email at Marty_Acker@fws.gov. Hearing or speech impaired individuals may call the Federal Relay Service at 800-877-8339 for TTY service.

SUPPLEMENTARY INFORMATION: We, the U.S. Fish and Wildlife Service (Service), provide this notice to prepare an environmental impact statement and open a public scoping period and announce public scoping meetings in accordance with requirements of the National Environmental Policy Act (NEPA; 42 U.S.C. 4321 et seq.) and its implementing regulations. We intend to prepare an environmental impact statement (EIS) to evaluate the impacts on the human environment related to an application from Thurston County, Washington (applicant), for an incidental take permit (ITP) under the Endangered Species Act of 1973, as amended (ESA; 16 U.S.C. 1531 et seq.).

The Service previously published a similar notice of intent to prepare an EIS on March 20, 2013 (78 FR 17224). Thurston County used the public comments received, along with new information, to further develop the Thurston HCP. This notice opens a new public scoping period based on a new application received from Thurston County on July 30, 2020. The primary purpose of the scoping process is for the public and other parties to assist in developing the DEIS by identifying important issues and alternatives that should be considered. This new scoping notice was prepared pursuant to the updated regulations implementing NEPA, issued by the Council on Environmental Quality on July 16, 2020 (85 FR 43304).

Purpose and Need for the Proposed Action

In accordance with section 10(a)(2)(A) of the ESA, Thurston County has submitted the draft Thurston County Habitat Conservation Plan (Thurston HCP) in support of an ITP application for the threatened Yelm pocket gopher (Thomomys mazama yelmensis), Olympia pocket gopher (T. mazama pugetensis), Tenino pocket gopher (T. mazama tumuli), and Oregon spotted frog (Rana pretiosa); the endangered Taylor's checkerspot butterfly (Euphydryas editha taylori); and the Oregon vesper sparrow (Pooecetes gramineus affinis), which is under review to determine if Federal listing under the ESA is warranted. The requested permit would authorize incidental take of covered species caused by the impacts of county-permitted development activities, as well as construction and maintenance of county-owned or county-managed infrastructure for a period of 30 years, and includes minimization and mitigation measures to offset the impacts of the taking on covered species.

To meet our requirements under NEPA, we intend to prepare a draft environmental impact statement (DEIS) and, later, a final environmental impact statement (FEIS), to evaluate the effects on the human environment of issuing the requested permit and Thurston County's implementation of the Thurston HCP.

The County's goals include providing long-term certainty for growth and economic development in Thurston County, supporting listed and rare species, protecting and maintaining working lands and agriculture, and improving local control over covered activities. The Service has taken these goals into account in establishing our purpose and need for the proposed action, which are (1) to process the applicant's request for an ITP, the issuance of which is necessary to meet the County's development and biological goals; and (2) to either grant, grant with conditions, or deny the ITP request in compliance with the Service's authority under applicable law including, without limitation, section 10(a) of the ESA and applicable ESA implementing regulations.

Preliminary Proposed Action and Alternatives

Consistent with 40 CFR 1501.9(d)(2), the preliminary description of the proposed action is issuance of an ITP authorizing incidental take of HCP covered species in association with covered activities and HCP implementation; the ITP will only be issued if ESA section 10(a) permit issuance criteria and all other legal requirements related to permit issuance are met. We will prepare a FEIS prior to making a decision on whether to issue an ITP.

The DEIS will include a reasonable range of alternatives, including a No Action Alternative, and will likely analyze variations in mitigation approaches and variations in conservation implementation and effectiveness monitoring. One alternative will include providing all mitigation on new reserves, likely providing greater benefits to covered species but with potentially higher implementation costs, and potentially less participation by farmers who may be willing to protect species and habitat through conservation easements. Additionally, a No Action Alternative will be included. Under the No Action Alternative, the Service would not issue an ITP, and Thurston County and its permittees would not obtain ESA take coverage for take of listed species from construction, maintenance, and other activities.

Background

Endangered Species Act

Section 9 of the ESA prohibits “take” of fish and wildlife species listed as endangered under section 4 (16 U.S.C. 1538 and 16 U.S.C. 1533, respectively). The ESA implementing regulations extend, under certain circumstances, the prohibition of take to threatened species (50 CFR 17.31). Under section 3 of the ESA, the term “take” means to “harass, harm, pursue, hunt, shoot, wound, kill, trap, capture, or collect, or attempt to engage in any such conduct” (16 U.S.C. 1532(19)). The term “harm” is defined by regulation as “an act which actually kills or injures wildlife.” Such act may include significant habitat modification or degradation where it actually kills or injures wildlife by significantly impairing essential behavioral patterns, including breeding, feeding, or sheltering” (50 CFR 17.3). The term “harass” is defined in the regulations as “an intentional or negligent act or omission which creates the likelihood of injury to wildlife by annoying it to such an extent as to significantly disrupt normal behavioral patterns which include, but are not limited to, breeding, feeding, or sheltering” (50 CFR 17.3).

Under section 10(a) of the ESA, the Service may issue permits to authorize incidental take of listed fish and wildlife species. “Incidental take” is defined by the ESA as take that is incidental to, and not the purpose of, carrying out an otherwise lawful activity. Section 10(a)(1)(B) of the ESA contains provisions for issuing ITPs to non-Federal entities for the take of endangered and threatened species, provided the following criteria are met:

1. The taking will be incidental;

2. The applicant will, to the maximum extent practicable, minimize and mitigate the impact of such taking;

3. The applicant will ensure that adequate funding for the plan will be provided;

4. The taking will not appreciably reduce the likelihood of the survival and recovery of the species in the wild; and

5. The applicant will carry out any other measures that the Service may require as being necessary or appropriate for the purposes of the HCP.

Thurston County Habitat Conservation Plan

Thurston County intends to implement the Thurston HCP to cover a variety of activities for which the County issues permits or approvals, or that it otherwise carries out through the course of its normal business throughout the County. Thurston County issues permits or approvals for residential development, construction of added accessory structures, septic repair or extension and home-heating oil tank removal, commercial and industrial development, and public facility construction. Thurston County carries out construction, transportation and right-of-way maintenance; landfill and solid waste management; water resources management; and county parks, trails, and land management. The Thurston HCP includes measures to minimize and mitigate impacts of the taking on covered species. Thurston County requests a 30-year ITP.

Covered Activities

The applicant is seeking ITP coverage for activities that it conducts, permits, or otherwise authorizes. The proposed covered activities include:

• Planning and permitting of residential and agricultural structures and facilities on existing legal lots;

• Permits for private and new subdivision road construction and maintenance;

• Permits for work in right-of-ways;

• Construction and maintenance of county roads, bridges, and right-of-ways;

• Construction and maintenance of county-owned buildings and other administrative facilities;

• Construction and maintenance of county parks, including roads, trails, vegetation management, structures, recreational activities, and scientific research;

• Construction and operation of solid waste facilities;

• Permitting and monitoring of septic systems and decommissioning of home oil tanks;

• Maintenance and monitoring of stormwater, water and wastewater resources and associated facilities;

• Construction, installation, extension, and maintenance of surface-water intake facilities, pumping plants, wells, well houses, water treatment facilities, and pipelines;

• Emergency response, cleanup, and restoration associated with natural disasters; and

• Habitat restoration activities on county-owned or controlled land, agricultural activities in habitat areas, and all habitat monitoring, maintenance, and enhancement activities associated with implementation of the HCP.

Covered Species

The species proposed for coverage under the Thurston HCP and ITP include three subspecies of the Mazama pocket gopher (the Yelm pocket gopher, Olympia pocket gopher, and the Tenino pocket gopher), Oregon spotted frog, Taylor's checkerspot butterfly, and the Oregon vesper sparrow.

The draft Thurston HCP includes an analysis of impacts to covered species and proposes limits on impacts resulting from covered activities. As it is not practical to express the anticipated take (or to monitor take-related impacts) in terms of number of individuals, the Thurston HCP uses habitat surrogates, measured as habitat area or as “functional-acre” values, to quantify impacts to each covered species and related conservation outcomes. The functional-acre approach integrates currently available information on covered species' habitat distribution, habitat condition, and landscape position to provide site-specific measures of habitat value. This approach provides greater weighting to both impacts and mitigation occurring in areas that are a priority for conservation of the covered species.

Each of the covered species is known to occur in Thurston County. The Thurston HCP would not require surveys for occupancy prior to the applicant's conducting covered activities. Therefore, the Thurston HCP includes detailed assumptions about habitat criteria and locations for each covered species. Measures to minimize and mitigate impacts on covered species are described for each type of activity to be covered by the HCP, and these measures would be systematically implemented and monitored for success. Impacts would be offset by permanent mitigation that is legally protected such as through conservation easements, and permanently funded through endowments and other funding mechanisms. Minimization and mitigation measures are subject to adaptive management to ensure their effectiveness, and to ensure achievement of the Thurston HCP's biological goals and objectives.

To mitigate unavoidable impacts to covered species, under the Thurston HCP's conservation program Thurston County proposes to permanently protect and manage covered species-occupied habitat by establishing habitat reserves, acquiring working lands conservation easements, and permanently enhancing habitat quality on existing reserves for each covered species. The addition of new reserves and working land conservation easements, as well as enhancements to existing reserves, would occur incrementally during HCP implementation. Mitigation for the Thurston HCP would be secured and managed to ensure that take is fully mitigated before a covered activity is initiated. The Thurston HCP includes funding assurances, monitoring, adaptive management, and changed circumstance provisions to help ensure conservation outcomes for the covered species. Annual reports would confirm the amount, type, and location of impacts and mitigation, as well as the status of monitoring, adaptive management, changed circumstances, and funding.

Yelm Pocket Gopher, Olympia Pocket Gopher, and Tenino Pocket Gopher

The Yelm pocket gopher, Olympia pocket gopher, and Tenino pocket gopher are the three listed subspecies of the Mazama pocket gopher occurring in Thurston County. The Service listed these three subspecies as threatened under the ESA on May 9, 2013 (79 FR 19760), and designated critical habitat for each of these subspecies on the same date (79 FR 19712).

Individuals of each subspecies build and maintain underground burrows in excessively well-drained soils where they forage, shelter, rear young, and maintain individual territories. The species relies on management-dependent grasslands and prairies, which have declined due to development, land use changes, and cessation of historical disturbance processes (e.g., fire). Habitat loss and fragmentation are primary threats to the species. Exposure to other threats, such as predation by domestic and feral animals, and rodenticide are heightened in the developed landscape.

The three subspecies of the Mazama pocket gopher in Thurston County are associated with glacial outwash prairies in western Washington, an ecosystem of conservation concern. Native prairies and grasslands have been severely reduced throughout Thurston County due to conversion of habitat to residential and commercial development and agriculture, rendering soils unsuitable for burrowing. Due to their solitary and territorial nature, many sites occupied by subspecies of the Mazama pocket gopher may contain a small number of individuals and occur in a matrix of residential and agricultural development.

Impacts to the Yelm pocket gopher, Olympia pocket gopher, and Tenino pocket gopher would result from the majority of HCP-covered development and maintenance activities in their respective ranges. As there is uncertainty about the number of individuals that would be impacted and it is not practical to express the amount or extent of anticipated take in terms of number of individuals, the Thurston HCP treats impacts to habitat as a surrogate for impacts to individuals. Habitat likely to be impacted is largely already fragmented and degraded in quality, and occupancy by the covered species is currently uncommon. To offset unavoidable impacts under the Thurston HCP's conservation program, Thurston County would secure, stabilize, and expand subspecies strongholds, while also contributing to subspecies recovery by protecting occupied habitat in strategic locations. To accomplish this, Thurston County would establish and permanently maintain a system of:

• New reserves in the ranges of each of the three Mazama pocket gopher subspecies;

• Working land conservation easements in the ranges of the Yelm pocket gopher and the Tenino pocket gopher; and

• Habitat enhancement on existing reserves in the range of the Yelm pocket gopher.

A biological goal of the Thurston HCP is to maintain viable populations of the Yelm pocket gopher, Olympia pocket gopher, and the Tenino pocket gopher in Thurston County. Measurable conservation objectives include the permanent protection of over 4,500 functional-acres of Mazama pocket gopher habitat distributed among existing and new reserves and working lands easements. Expected effects of HCP implementation on these subspecies and their designated critical habitats are described in greater detail in the Thurston HCP and will be analyzed in the EIS.

Oregon Spotted Frog

The Service listed the Oregon spotted frog as a threatened species throughout its range on September 29, 2014 (79 FR 51658) and designated critical habitat on June 10, 2016 (81 FR 29336).

Historically, the Oregon spotted frog ranged from British Columbia to northeastern California. In Washington, the Oregon spotted frog was historically found in the Puget Trough from the Canadian border to the Columbia River, and east to the Washington Cascades. Current distribution is limited to four watersheds in the Puget Trough and two watersheds in the southeast Cascades. In the Thurston HCP-covered area, the species occurs in the floodplain and tributaries of the upper Black River drainage in tributaries to Black Lake and the Black River. The full extent of the population's distribution, abundance, and status in the Black River has not been determined.

Oregon spotted frogs require shallow water areas for egg and tadpole survival; perennially deep, moderately vegetated pools for adult and juvenile survival in the dry season; and perennial water for protecting all age classes during cold, wet weather. The Oregon spotted frog primarily inhabits emergent wetland habitats in forested landscapes, although it is not typically found under forest canopy. Individuals are found in or near perennial waterbodies, such as springs, ponds, lakes, sluggish streams, irrigation canals, or roadside ditches, and can make use of a variety of pond types as long as there is sufficient vegetation and seasonal habitat available for egg-laying, tadpole rearing, summer feeding, and overwintering. In the Thurston HCP-covered area, Oregon spotted frogs are also documented to select areas of relatively shallow water with less emergent vegetation and more submergent vegetation than adjacent habitats.

Oregon spotted frogs in the Thurston HCP-covered area have small population sizes; fragmented habitat with low connectivity; and face threats from wetland loss from development and altered hydrology, introduced species including reed canarygrass and bullfrogs, shrub encroachment, loss of beaver dams, and poor water quality.

Impacts to Oregon spotted frogs would be caused by a small number of HCP-covered development and maintenance activities, because habitat for the species is limited to certain portions of the plan area. As there is uncertainty about the number of individuals that would be impacted and it is not practical to express the amount or extent of anticipated take in terms of number of individuals, the Thurston HCP treats impacts to habitat as a surrogate for impacts to individuals. Habitat likely to be impacted is likely to be already degraded. To offset unavoidable impacts, under the Thurston HCP's conservation program, Thurston County would establish new reserves to secure, stabilize, and expand Oregon spotted frog strongholds. This would provide the ancillary benefit of contributing to species recovery. A biological goal of the Thurston HCP is to maintain viable populations of the Oregon spotted frog in Thurston County. Measurable conservation objectives include the establishment and permanent protection of 618 functional-acres of Oregon spotted frog habitat, strategically located to increase habitat quality, occupancy, and stability. Expected effects of HCP implementation on the species and its designated critical habitat are described in greater detail in the Thurston HCP and will be analyzed in the EIS.

Taylor's Checkerspot Butterfly

The Service listed the Taylor's checkerspot butterfly as an endangered species on November 4, 2013 (78 FR 61452), and designated critical habitat on the same date (78 FR 61506).

The Taylor's checkerspot butterfly was once found throughout native grasslands of the north and south Puget Sound, south Vancouver Island, and the Willamette Valley of Oregon. The historical range and the species' abundance is not precisely known, because exhaustive searches did not occur until recently. Northwest grasslands were formerly more widespread, larger and interconnected—conditions that likely would have supported a greater distribution and abundance of the Taylor's checkerspot butterfly. Before its decline, the Taylor's checkerspot butterfly was documented at more than 70 sites in British Columbia, Washington, and Oregon.

Habitat requirements for the Taylor's checkerspot butterfly consist of open grasslands and native grass/oak woodland sites where abundant food plants are available for larvae and adult feeding. These sites include inland prairies on post-glacial, gravelly outwash, coastal bluffs, and balds (small openings within forested landscapes).

The major limiting factors affecting the Taylor's checkerspot butterfly are related to the significant loss of habitat, largely due to agricultural and urban development, encroachment of trees, and the spread of invasive plants that threaten the species' native grasslands. Pesticide use and recreational activities may also pose a direct threat to the butterflies themselves. Over time, these pressures have led to smaller and smaller numbers of existing populations. Most of the remaining Taylor's checkerspot butterfly habitat patches are a considerable distance from one another, likely well beyond the normal dispersal distance of the species. Natural recolonization is unlikely as populations disappear, but captive breeding and reintroduction have been shown to be successful for creating new populations for the subspecies, including within the Thurston HCP-covered area.

Impacts to the Taylor's checkerspot butterfly would be caused by a small number of HCP-covered development and maintenance activities taking place within the potential dispersal distance of butterflies from known populations. As there is uncertainty about the number of individuals that would be impacted and it is not practical to express the amount or extent of anticipated take in terms of number of individuals, the Thurston HCP treats impacts to habitat as a surrogate for impacts to individuals. Habitat likely to be impacted is along fragmented edges of managed, occupied habitat, and is not known to be occupied. To offset unavoidable impacts, under the Thurston HCP's conservation program, Thurston County would enhance existing reserves to expand species strongholds, while also implementing other conservation actions to help facilitate species recovery. A biological goal of the Thurston HCP is to maintain viable populations of the Taylor's checkerspot butterfly in Thurston County. Measurable conservation objectives include the enhancement and permanent maintenance of 16 functional-acres of Taylor's checkerspot butterfly habitat, strategically located to increase habitat quality, occupancy, and stability. Expected effects of HCP implementation on the species and its designated critical habitat are described in greater detail in the Thurston HCP and will be analyzed in the EIS.

Oregon Vesper Sparrow

The Service initiated a status review to determine whether Oregon vesper sparrow warrants listing under the ESA on June 27, 2018 (83 FR 30091), in response to a petition to list the species as endangered or threatened with critical habitat, that was received on November 8, 2017.

The Oregon vesper sparrow is a ground-nesting migratory bird. The Oregon vesper sparrow was considered to be historically abundant, but is currently rare in the south Puget lowlands. Landscape position appears to be an important factor, with most historical observations in the Thurston HCP-covered area occurring in the greater Yelm Prairie area. In the HCP-covered area, the Oregon vesper sparrow uses large patches (over 50 acres) of grassland and prairie for nesting, foraging, and breeding. Habitat occurs in lowland valleys with moderately short grass and forb cover, some patchy bare ground and sparsely vegetated areas, and some shrub cover or low amounts of tree cover. However, sightings remain uncommon in habitat meeting these criteria. The Oregon vesper sparrow overwinters outside the HCP-covered area, mostly in California.

Vesper sparrow habitat in the Thurston HCP-covered area is used during the breeding season, so nest success (i.e., reproductive success) can be limited by land uses. Mowing, intensive grazing, and other ground-disturbing activities during the nesting season risk damage to eggs or injury to nestlings.

Impacts to the Oregon vesper sparrow would be caused by a small number of HCP-covered development and maintenance activities taking place within the potential dispersal distance of vesper sparrows from known populations. As there is uncertainty about the number of individuals that would be impacted, and it is not practical to express the amount or extent of anticipated take in terms of number of individuals, the Thurston HCP treats impacts to habitat within the likely range of the species as a surrogate for impacts to individuals. Habitat likely to be impacted is already degraded in quality and likely to have some history of incompatible land use, and is mostly not known to be occupied. To offset unavoidable impacts under the Thurston HCP's conservation program, Thurston County would establish working land conservation easements to secure, stabilize, and expand Oregon vesper sparrow strongholds, while also implementing other conservation actions to promote the species' recovery. A biological goal of the Thurston HCP is to maintain viable populations of the Oregon vesper sparrow in Thurston County. Measurable conservation objectives include the permanent protection of 25 functional-acres of Oregon vesper sparrow habitat, strategically located to increase habitat quality, occupancy, and stability. Expected effects of HCP implementation on the species are described in greater detail in the Thurston HCP and will be analyzed in the EIS.

Summary of Expected Impacts

The DEIS will identify and describe the effects of the proposed Federal action on the human environment that are reasonably foreseeable and have a reasonably close causal relationship to the proposed action. This includes effects that occur at the same time and place as the proposed action or alternatives and/or effects that are later in time or farther removed in distance from the proposed action or alternatives. Expected impacts include, but are not limited to, positive and negative impacts to the covered species and critical habitat, geology and soils, air quality, water resources, other biological resources, health and safety, land and shoreline use, recreation, aesthetics, historical and cultural resources, transportation, public services and utilities, and socioeconomics. The effects of these expected impact will be analyzed in the EIS.

The analysis will consider the adequacy of each alternative to maintain or enhance the status of the covered species at appropriate scales in light of the expected effects and other best available information. Impacts to air quality, water resources, and other biological resources, such as fish, wildlife, and the prairie and forest ecosystems, are expected to include incremental negative impacts from development that are minimized and or mitigated at the landscape level through application of applicable law, including local and State regulations, and implementation of conservation strategies under each alternative. Under each alternative, significant impacts to water resources, State-protected species, and ecosystems would typically be avoided or minimized by the County's compliance with local and State regulations governing development, and under any alternative individual projects that may significantly impact these resources undergo additional public review under the Washington State Environmental Policy Act (SEPA). The action alternatives' conservation programs may serve to offset or partially offset impacts on air quality, water resources, and other biological resources at the landscape scale, though these actions would be targeted at offsetting impacts to covered species. Localized positive and negative impacts to recreation, aesthetics, historical and cultural resources, and transportation may result from HCP implementation due to the expected changes in land use from development (covered activities) and through expansion of permanently maintained open spaces (conservation program). Significant effects on public services and utilities are not expected to result from any of the alternatives, because these resources are likely to be developed to meet demand where development does occur under any alternative.

Anticipated Permits and Authorizations

In addition to the requested ITP, Thurston County will manage covered activities to comply with Washington State endangered and protected species regulations; Washington State Growth Management Act, which includes State and local protection of historic and cultural resources implemented through the County's Comprehensive Plan; Washington State Shoreline Management Act; Washington State Hydraulic Code; Thurston County Critical Area Ordinances; State and local requirements for administrative procedures; and other regulations. To implement the HCP, Thurston County will establish participation agreements with their permitees and other implementation partners. Individual projects conducted under the HCP will undergo further public review, as appropriate, through the Washington SEPA.

Schedule for the Decision-Making Process

The Service will conduct an environmental review to analyze the effects of the proposed permit action, along with other alternatives considered and the associated impacts of each alternative for the development of the DEIS. Following completion of the environmental review, the Service will publish a notice of availability and request for public comments on the DEIS, the County's ITP application, and the draft HCP. The Service expects to make the DEIS and draft HCP available to the public in spring 2021. After public review and comment, we will evaluate the permit application, associated documents, and any comments received, to determine whether the permit application meets the requirements of section 10(a)(1)(B) of the ESA. We will also evaluate whether issuance of the requested ITP would comply with section 7 of the ESA. The Service expects to make the FEIS and final HCP available to the public in mid-2021. At least 30 days after the FEIS is available, the record of decision will be completed in accordance with applicable timeframes established in 40 CFR 1506.11.

Public Scoping Process

The issuance of this notice of intent provides an opportunity for public involvement in the scoping process to guide the development of the EIS.

To help protect the public and limit the spread of the COVID-19 virus, the public scoping meetings will be conducted online to accommodate best practices and local guidelines in place at the time this notice was prepared. See DATES and ADDRESSES for the dates and times of the virtual public scoping meetings. The virtual public scoping meetings will provide Thurston County and the Service an opportunity to present information pertinent to the Thurston HCP and for the public to ask questions on the scope of issues and alternatives we should consider when preparing the EIS. No opportunity for oral comments will be provided. Written comments may be submitted by the methods listed in ADDRESSES.

Reasonable Accommodations

Persons needing reasonable accommodations in order to attend and participate in either of the virtual public scoping meetings should contact the Service's Washington Fish and Wildlife Office, using one of the methods listed in ADDRESSES as soon as possible. In order to allow sufficient time to process requests, please make contact no later than one week before the desired public meeting. Information regarding this proposed action is available in alternative formats upon request.

Request for Identification of Potential Alternatives, Information, and Analyses Relevant to the Proposed Actions

We request data, comments, views, arguments, new information, analysis, new alternatives, or suggestions from the public; affected Federal, State, Tribal, and local governments, agencies, and offices; the scientific community; industry; or any other interested party on the proposed action. We will consider these comments in developing the DEIS. Specifically, we seek:

1. Biological information, analysis and relevant data concerning the covered species and other wildlife;

2. Information on Oregon vesper sparrow occurrence in Thurston County;

3. Potential effects that the proposed permit action could have on the covered species, and other endangered or threatened species, and their associated ecological communities or habitats;

4. Potential effects that the proposed permit action could have on other aspects of the human environment, including ecological, aesthetic, historic, cultural, economic, social, environmental justice, or health effects;

5. Other possible reasonable alternatives to the proposed permit action that the Service should consider, including additional or alternative avoidance, minimization, and mitigation measures;

6. The presence of historic properties—including archaeological sites, buildings and structures, historic events, sacred and traditional areas, and other historic preservation concerns—in the proposed permit area, which are required to be considered in project planning by the National Historic Preservation Act;

7. Information on other current or planned activities in, or in the vicinity of, Thurston County and their possible impacts on the covered species, including any connected actions that are closely related and should be discussed in the same DEIS; and

8. Other information relevant to the Thurston HCP and its impacts on the human environment.

Comments received in writing during the 2013 public comment period were retained, and do not need be provided again during this public comment period to be considered during this review. Once the DEIS is prepared, there will be further opportunity for comment on this proposed permit action through an additional public comment period.

Public Availability of Comments

You may submit your comments and materials by one of the methods listed in ADDRESSES. Before including your address, phone number, or other personal identifying information in your comment, you should be aware that your entire comment—including your personal identifying information—might be made publicly available at any time. While you can ask us in your comment to withhold your personal identifying information from public review, we cannot guarantee that we will be able to do so. All submissions from organizations or businesses, and from individuals identifying themselves as representatives or officials of organizations or businesses, will be made available for public disclosure in their entirety.

Comments and materials we receive, as well as supporting documentation we use in preparing the DEIS, will be available for public inspection online in Docket No. FWS-R1-ES-2020-0101 at http://www.regulations.gov/ (see FOR FURTHER INFORMATION CONTACT).

Decision Maker and Nature of Decision to Be Made

The Decision Maker is the Service's Regional Director. If after publication of the ROD we determine that all requirements are met for ITP issuance, the Regional Director will issue a decision on the requested ITP.

Authority

We provide this notice in accordance with the requirements of Section 10(c) of the ESA (16 U.S.C. 1539(c)) and NEPA regulations pertaining to the publication of a notice of intent to issue an EIS (40 CFR 1501.9(d)).

Robyn Thorson,
Regional Director, U.S. Fish and Wildlife Service.

[FR Doc. 2020-22963 Filed 10-15-20; 8:45 am]

BILLING CODE 4333-15-P